DEPARTMENT OF COMMERCE

International Trade Administration

[A-570-986]

Hardwood and Decorative Plywood From the People's Republic of China: Final Determination of Sales at Less Than Fair Value

AGENCY: Import Administration, International Trade Administration, Department of Commerce.

DATES: Effective Date: September 23, 2013.

SUMMARY: On May 3, 2013, the Department of Commerce (“Department”) published its preliminary determination of sales at less than fair value (“LTFV”) in the antidumping duty investigation of hardwood and decorative plywood (“plywood”) from the People's Republic of China (“PRC”).¹ We invited interested parties to comment on our preliminary determination of sales at LTFV. Based on our analysis of the comments we received, we have made changes to our preliminary determination. We determine that plywood from the PRC is being, or is likely to be, sold in the United States at LTFV, as provided in section 735 of the Tariff Act of 1930, as amended (“the Act”). The final dumping margins for this investigation are listed in the “Final Determination Margins” section below.

¹ See Hardwood and Decorative Plywood From the People's Republic of China: Antidumping Duty Investigation, 78 FR 25946 (May 3, 2013) (“Preliminary Determination”).

FOR FURTHER INFORMATION CONTACT: Katie Marksberry or Kabir Archuletta, AD/CVD Operations, Office 9, Import Administration, International Trade Administration, U.S. Department of Commerce, 14th Street and Constitution Avenue NW., Washington, DC 20230; telephone: (202) 482-7906 or (202) 482-2593, respectively.

SUPPLEMENTARY INFORMATION:

Background

The Department published its Preliminary Determination on May 3, 2013. On June 3, 2013, the Department published an extension of the final determination, and on June 11, 2013, the Department published a correction of the extension of the final determination.² Between June 17 and June 27, 2013, the Department received post-preliminary surrogate value and rebuttal surrogate value information from Petitioners,³ Sanfortune ⁴ and the Jiangyang Group,⁵ and Dehua TB.⁶ The Department set separate briefing schedules for parties to address scope related issues which pertain to both the antidumping and countervailing duty investigations and for parties to address general issues related to the antidumping duty investigation only. For a list of the parties that filed case and rebuttal briefs related to scope and general issues, see the Issues and Decision Memorandum.⁷ On June 18, 2013, the Department held a public hearing limited to issues raised in scope related case and rebuttal briefs, and on July 18, 2013, the Department held a public hearing limited to issues raised in the general case and rebuttal briefs.

² The Department postponed the deadline for the final determination to not later than 135 days after publication of the Preliminary Determination (i.e., September 15, 2013). See Hardwood and Decorative Plywood From the People's Republic of China: Correction of Postponement of Final Determination of Antidumping Duty Investigation and Countervailing Duty Investigations and Extension of Provisional Measures, 78 FR at 34991. However, because September 15, 2013, falls on a non-business day, the revised deadline for this final determination is now September 16, 2013. See Notice of Clarification: Application of “Next Business Day” Rule for Administrative Determination Deadlines Pursuant to the Tariff Act of 1930, As Amended, 70 FR 24533 (May 10, 2005).

³ The Coalition for Fair Trade of Hardwood Plywood.

⁴ Linyi Sanfortune Wood Co., Ltd.

⁵ Xuzhou Jiangyang Wood Industries Co., Ltd. and Xuzhou Jiangheng Wood Products Co., Ltd.

⁶ Dehua TB Industry & Trade Limited and Zhejiang Dehua TB Import & Export Co., Ltd (collectively, “Dehua TB”).

⁷ See Memorandum from Christian Marsh, Deputy Assistant Secretary for Antidumping and Countervailing Duty Operations, to Paul Piquado, Assistant Secretary for Import Administration, “Issues and Decision Memorandum for the Final Determination of the Antidumping Duty Investigation of Hardwood and Decorative Plywood from the People's Republic of China” (September 16, 2013) (“Issues and Decision Memorandum”).

Period of Investigation

The period of investigation (“POI”) is January 1, 2012, through June 30, 2012. This period corresponds to the two most recent fiscal quarters prior to the month of the filing of the petition, which was September 2012.⁸

⁸ See 19 CFR 351.204(b)(1).

Verification

As provided in section 782(i) of the Act, between May 27 and June 12, 2013, the Department verified the information submitted by Sanfortune and the Jiangyang Group for use in the final determination.⁹ Verification reports were issued on June 21, 2013, and June 24, 2013. The Department used standard verification procedures, including examination of relevant accounting and production records and original source documents provided by respondents.

⁹ See the Department's memorandum regarding: Verification of the Sales and Factors Responses of Xuzhou Jiangyang Wood Industries Co. Ltd and Xuzhou Jiangheng Wood Products Co. Ltd. in the Antidumping Duty Investigation of Hardwood and Decorative Plywood from the People's Republic of China, dated June 21, 2013; the Department's memorandum regarding: Verification of the Sales and Factors Responses of Linyi Sanfortune Wood Co., Ltd. in the Investigation of Hardwood and Decorative Plywood from the People's Republic of China, dated June 21, 2013; see also the Department's memorandum regarding: Verification of the CEP Sales Response of Xuzhou Jiangyang Wood Industries Co. Ltd and Xuzhou Jiangheng Wood Products Co. Ltd. in the Investigation of Hardwood and Decorative Plywood from the People's Republic of China, dated June 24, 2013.

Analysis of Comments Received

All issues raised in the case and rebuttal briefs on scope and general issues by parties in this investigation are addressed in the Issues and Decision Memorandum.¹⁰ A list of the issues that parties raised and to which we respond in the Issues and Decision Memorandum is attached to this notice as an Appendix. The Issues and Decision Memorandum is a public document and is on file electronically via Import Administration's Antidumping and Countervailing Duty Centralized Electronic Service System (“IA ACCESS”). Access to IA ACCESS is available to registered users at http://iaaccess.trade.gov, and is available to all parties in the Central Records Unit, which is in room 7046 of the main Department of Commerce building. In addition, a complete version of the Issues and Decision Memorandum can be accessed directly on the Internet at www.trade.gov/ia. The signed Issues and Decision Memorandum and the electronic versions of the Issues and Decision Memorandum are identical in content.

¹⁰ See Issues and Decision Memorandum.

Changes Since the Preliminary Determination

Changes Applicable to Multiple Companies

• We changed our surrogate country selection from the Philippines to Bulgaria, and accordingly, we valued all inputs as well as financial ratios using Bulgarian surrogate values.¹¹

¹¹ See Issues and Decision Memorandum at Comment 7.

• We made certain revisions to the language of the scope of the investigations in order to clarify the products that are covered by the scope of the antidumping and countervailing duty investigations.¹² All changes are reflected in the language of the scope as published below.

¹² See id. at Comment 6.

Changes Specific to the Jiangyang Group

• We excluded the Jiangyang Group's salvage sales from its margin calculation.¹³

¹³ See Memorandum to the File from Kabir Archuletta, International Trade Analyst, Office 9, through Catherine Bertrand, Program Manager, Office 9 “Antidumping Duty Investigation of Hardwood and Decorative Plywood from the People's Republic of China: Final Analysis Memo for Jiangyang Group” dated concurrently with this notice at 4.

• We applied partial adverse facts available to certain sales made by the Jiangyang Group through a PRC reseller.¹⁴

¹⁴ See Issues and Decision Memorandum at Comment 12.

• We revised the Jiangyang Group's warehousing expenses.¹⁵

¹⁵ See id. at Comment 13.

Changes Specific to Sanfortune

• We revised the spelling of Sanfortune's company name in the U.S. Customs and Border Protection instructions.¹⁶

¹⁶ See Issues and Decision Memorandum at Comment 17.

For detailed information concerning all of the changes made, including those listed above, see Issues and Decision Memorandum, the company-specific analysis and SV memoranda.

Scope of the Investigation

The merchandise subject to this investigation is hardwood and decorative plywood. Hardwood and decorative plywood is a flat panel composed of an assembly of two or more layers or plies of wood veneers in combination with a core. The veneers, along with the core, are glued or otherwise bonded together to form a finished product. A hardwood and decorative plywood panel must have face and back veneers which are composed of one or more species of hardwoods, softwoods, or bamboo. Hardwood and decorative plywood may include products that meet the American National Standard for Hardwood and Decorative Plywood, ANSI/HPVA HP-1-2009.

All hardwood and decorative plywood is included within the scope of this investigation, without regard to dimension (overall thickness, thickness of face veneer, thickness of back veneer, thickness of core, thickness of inner veneers, width, or length). However, the most common panel sizes of hardwood and decorative plywood are 1219 x 1829 mm (48 x 72 inches), 1219 x 2438 mm (48 x 96 inches), and 1219 x 3048 mm (48 x 120 inches).

A “veneer” is a thin slice of wood which is rotary cut, sliced or sawed from a log, bolt or flitch. The face veneer is the exposed veneer of a hardwood and decorative plywood product which is of a superior grade than that of the back veneer, which is the other exposed veneer of the product (i.e., as opposed to the inner veneers). When the two exposed veneers are of equal grade, either one can be considered the face or back veneer. For products that are entirely composed of veneer, such as Veneer Core Platforms, the exposed veneers are to be considered the face and back veneers, in accordance with the descriptions above.

The core of hardwood and decorative plywood consists of the layer or layers of one or more material(s) that are situated between the face and back veneers. The core may be composed of a range of materials, including but not limited to veneers, particleboard, and medium-density fiberboard (“MDF”).

All hardwood and decorative plywood is included within the scope of this investigation regardless of whether or not the face and/or back veneers are surface coated, unless the surface coating obscures the grain, texture or markings of the wood in a permanent manner. Examples of surface coatings which may not obscure the grain, texture or markings of the wood include, but are not limited to, ultra-violet light cured polyurethanes, oil or oil-modified or water based polyurethanes, wax, epoxy-ester finishes, and moisture-cured urethanes. Hardwood and decorative plywood that has face and/or back veneers which have a permanent and opaque surface coating which obscures the grain, texture or markings of the wood, are not included within the scope of this investigation. Examples of permanently affixed surface coatings which may obscure the grain, texture or markings of wood include, but are not limited to, paper, aluminum, high pressure laminate (“HPL”), MDF, medium density overlay (“MDO”), and phenolic film. Additionally, the face veneer of hardwood and decorative plywood may be sanded, smoothed or given a “distressed” appearance through such methods as hand-scraping or wire brushing. The face veneer may be stained.

The scope of the investigation excludes the following items: (1) structural plywood (also known as “industrial plywood” or “industrial panels”) that is manufactured and stamped to meet U.S. Products Standard PS 1-09, PS 2-09, or PS 2-10 for Structural Plywood (including any revisions to that standard or any substantially equivalent international standard intended for structural plywood), including but not limited to the “bond performance” requirements set forth at paragraph 5.8.6.4 of that Standard and the performance criteria detailed at Table 4 through 10 of that Standard; (2) products which have a face and back veneer of cork; (3) multilayered wood flooring, as described in the antidumping duty and countervailing duty orders on Multilayered Wood Flooring from the People's Republic of China, Import Administration, International Trade Administration, U.S. Department of Commerce Investigation Nos. A-570-970 and C-570-971 (published December 8, 2011), and additionally, multilayered wood flooring with a face veneer of bamboo or composed entirely of bamboo; (4) plywood which has a shape or design other than a flat panel; (5) products made entirely from bamboo and adhesives (also known as “solid bamboo”).

Imports of the subject merchandise are provided for under the following subheadings of the Harmonized Tariff Schedule of the United States (“HTSUS”): 4412.10.0500; 4412.31.0520; 4412.31.0540; 4412.31.0560; 4412.31.2510; 4412.31.2520; 4412.31.4040; 4412.31.4050; 4412.31.4060; 4412.31.4070; 4412.31.5135; 4412.31.5155; 4412.31.5165; 4412.31.5175; 4412.31.6000; 4412.31.9100; 4412.32.0520; 4412.32.0540; 4412.32.0560; 4412.32.2510; 4412.32.2520; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3111; 4412.94.3121; 4412.94.3131; 4412.94.3141; 4412.94.3160; 4412.94.3171; 4412.94.4100; 4412.94.6000; 4412.94.7000; 4412.94.8000; 4412.94.9000; 4412.99.0600; 4412.99.1020; 4412.99.1030; 4412.99.1040; 4412.99.3110; 4412.99.3120; 4412.99.3130; 4412.99.3140; 4412.99.3150; 4412.99.3160; 4412.99.3170; 4412.99.4100; 4412.99.5710; 4412.99.6000; 4412.99.7000; 4412.99.8000; 4412.99.9000; 4412.10.9000; 4412.31.4080; 4412.32.0570; 4412.32.2530; 4412.94.5100; 4412.94.9500; 4412.99.5115; and 4412.99.9500.

While HTSUS subheadings are provided for convenience and customs purposes, the written description of the subject merchandise as set forth herein is dispositive.

Combination Rates

In the Initiation Notice, the Department stated that it would calculate combination rates for respondents that are eligible for a separate rate in this investigation.¹⁷ This practice is described in Policy Bulletin 05.1, available at http://www.trade.gov/ia/.

¹⁷ See Hardwood and Decorative Plywood From the People's Republic of China: Initiation of Antidumping Duty Investigation, 77 FR 65172 (October 25, 2012) (“Initiation Notice”).

Final Determination

Because the PRC-wide entity did not provide the Department with requested information, pursuant to section 776(a)(2)(A) of the Act, the Department continues to find it appropriate to base the PRC-wide rate on facts available.¹⁸ The Department determines that the following weighted-average dumping margins exist for the period January 1, 2012, through June 30, 2012.

¹⁸ See Issues and Decision Memorandum at 6-8.

Exporter | Producer | Percent margin
Linyi Sanfortune Wood Co., Ltd | Linyi Sanfortune Wood Co., Ltd | 55.76
Jiangyang Group ¹⁹ | Jiangyang Group | 62.55
Anhui Tiansen Trading Co., Ltd | Linyi City Fei County Jianxin Boards Factory | 59.46
Anhui Tiansen Trading Co., Ltd | Xuzhou Dayuan Wooden Industry Co., Ltd | 59.46
Anhui Tiansen Trading Co., Ltd | Linyi Yiming Wooden Industry Co., Ltd | 59.46
Anhui Tiansen Trading Co., Ltd | Linyi Xicheng Wooden Industry Co., Ltd | 59.46
Anhui Tiansen Trading Co., Ltd | Linyi Dazhong Wooden Industry Co., Ltd | 59.46
Anhui Wanmu Wood Co., Ltd | Anhui Wanmu Wood Co., Ltd | 59.46
Anhui Xinyuanda Wood Co., Ltd | Anhui Xinyuanda Wood Co., Ltd | 59.46
Anji Hefeng Bamboo & Wood Industry Co., Ltd | Anji Hefeng Bamboo & Wood Industry Co., Ltd | 59.46
Anji Qichen Bamboo Industry Co., Ltd | Anji Qichen Bamboo Industry Co., Ltd | 59.46
Bergey (Tianjin) International Co., Ltd | Linyi Huifeng Wood Industry Co., Ltd | 59.46
Bergey (Tianjin) International Co., Ltd | Suqian City Santai Wood Industry Co., Ltd | 59.46
Bergey (Tianjin) International Co., Ltd | Jiangsu Shuren Wood Industry Co., Ltd | 59.46
Celtic Co., Ltd | Linyi Celtic Wood Co., Ltd | 59.46
Cosco Star International Co., Ltd | Deqing Shengqiang Wood Co., Ltd | 59.46
Cosco Star International Co., A427Ltd | Zhejiang Shenghua Yunfeng Import & Export Co., Ltd | 59.46
Cosco Star International Co., Ltd | Linyi Huasheng Yongbin Wood Corp. | 59.46
Cosco Star International Co., Ltd | Xuzhou Pengyu Wood Products Co., Ltd | 59.46
Cosco Star International Co., Ltd | Pizhou Jiangshan Wood Co., Ltd | 59.46
Cosco Star International Co., Ltd | Shandong Union Wood Co., Ltd | 59.46
Cosco Star International Co., Ltd | Linyi Sanfortune Wood Co. Ltd | 59.46
Cosco Star International Co., Ltd | Shandong Anxin Timber Co., Ltd | 59.46
Cosco Star International Co., Ltd | Yinyi Evergreen Wood Co., Ltd | 59.46
Cosco Star International Co., Ltd | Shandong Huaxin Jiasheng Wood Co., Ltd | 59.46
Cosco Star International Co., Ltd | Shandong Ruichen Wood Co., Ltd | 59.46
Cosco Star International Co., Ltd | Linyi Tian He Wooden Industry Co., Ltd | 59.46
Cosco Star International Co., Ltd | Jiangsu Vermont Wood Products Co., Ltd | 59.46
Cosco Star International Co., Ltd | Xuzhou Shenghe Wood Co., Ltd | 59.46
Cosco Star International Co., Ltd | Jiangsu Dongjia Wood Co., Ltd | 59.46
Cosco Star International Co., Ltd | Linyi Laiyi Timber Industry Co., Ltd | 59.46
Cosco Star International Co., Ltd | Feixian Hongqiang Wood Co., Ltd | 59.46
Cosco Star International Co., Ltd | Suqian Chuangyuan Decoration Material Co., Ltd | 59.46
Cosco Star International Co., Ltd | Linyi Delihe Wood Co., Ltd | 59.46
Cosco Star International Co., Ltd | Linyi Mingdian Wood Co., Ltd | 59.46
Cosco Star International Co., Ltd | Su Qian Xin Yuan Lin Wooden Co., Ltd | 59.46
Cosco Star International Co., Ltd | Linyi Hengda Wood Factory. | 59.46
Dehua Tb Industry & Trade Company Limited | Zhejiang Jufeng Wood Co., Ltd | 59.46
Dehua Tb Industry & Trade Company Limited | Dehua Tb New Decoration Material Co., Ltd | 59.46
Dehua Tb Industry & Trade Company Limited | Zhangjiagang Jiuli Wood Co., Ltd | 59.46
Deqing Dajiang Import And Export Co., Ltd | Fengxian Fangyuan Wood Industry Co., Ltd | 59.46
Deqing Dajiang Import And Export Co., Ltd | Linyi Rui Tong Wood Co., Ltd | 59.46
Deqing Dajiang Import And Export Co., Ltd | Linyi Tongxin Wood Industry Co., Ltd | 59.46
Deqing Dajiang Import And Export Co., Ltd | Zhucheng Huifeng Wood Industry Co., Ltd | 59.46
Deqing Dajiang Import And Export Co., Ltd | Linyi Jiatai Wood Industry Co., Ltd | 59.46
Deqing Dajiang Import And Export Co., Ltd | Linyi City Lanshan District Qifeng Wood Factory | 59.46
Fengxian Fangyuan Wood Co., Ltd | Fengxian Fangyuan Wood Co., Ltd | 59.46
G. D. ENTERPRISE LIMITED | International Wood Products (Kunshan) Co., Ltd | 59.46
Green Link International Corp. | Jiangsu Vermont Wood Products Co., Ltd | 59.46
Green Link International Corp. | Suzhou Dongsheng Wood Products Co., Ltd | 59.46
Green Link International Corp. | Suzhou Dongda Wood Co., Ltd | 59.46
Green Link International Corp. | Linyi Jiahe Wood Industry Co., Ltd | 59.46
Green Link International Corp. | Linyi Tianhe Wooden Industry Co., Ltd | 59.46
Green Link International Corp. | Fengxian Fangyuan Wood Co., Ltd | 59.46
Green Link International Corp. | Xuzhou Pengyu Wood Products Co., Ltd | 59.46
Green Link International Corp. | Yinhe Machinery Chemical Limited Company of Shandong Province | 59.46
Green Link International Corp. | Yishuihontai Wood-Made Co., Ltd | 59.46
Green Link International Corp. | Xuzhou Fuxin Wood Products Co., Ltd | 59.46
Green Link International Corp. | Feixian Tanyi Youchengjiafu Wood Products, Co., Ltd | 59.46
Green Link International Corp. | Feixian Xingying Wood Products Co., Ltd | 59.46
Green Link International Corp. | Feixian Tanyi Hongtaiyang Wood Produts Co., Ltd | 59.46
Green Link International Corp. | Shandong Union Wood Co., Ltd | 59.46
Green Link International Corp. | Xinyi Chaohua Wood Products Co., Ltd | 59.46
Green Link International Corp. | Feixian Hongsheng Wood Products Co., Ltd | 59.46
Green Link International Corp. | Shandong Ningjin Runkang Wood Products Co., Ltd | 59.46
Green Link International Corp. | Linyi Dahua Wood Product Co., Ltd | 59.46
Green Link International Corp. | Shandong Zhengda Industry and Trad Development Co., Ltd | 59.46
Green Link International Corp. | Feixian Longmen Plywood Co., Ltd | 59.46
Green Link International Corp. | Linyi Huasheng Yongbin Wood Co., Ltd | 59.46
Green Link International Corp. | Linyi Jiacheng Wood Products Co., Ltd | 59.46
Green Link International Corp. | Yutai Zezhong Wood Product Co., Ltd | 59.46
Green Link International Corp. | Linyi Qianfeng Wood Products Co., Ltd | 59.46
Green Link International Corp. | Xuzhou Yujinfang Wood Products Co., Ltd | 59.46
Green Link International Corp. | Fengxian Zhongtuo Wood Co., Ltd | 59.46
Green Link International Corp. | Linyi Jinqiu Wood Products Co., Ltd | 59.46
Green Link International Corp. | Linyi Laite Plywood Factory | 59.46
Green Link International Corp. | Linyi City Lanshan District Yixing Wood Produts Co., Ltd | 59.46
Green Link International Corp. | Xuzhou Qinyi Wood Products Co., Ltd | 59.46
Green Link International Corp. | Linyi Linhai Wood Co., Ltd | 59.46
Green Link International Corp. | Linyi Qunshan Wood Products Co., Ltd | 59.46
Green Link International Corp. | Linyi Hongpanyong Wood Products Co., Ltd | 59.46
Green Link International Corp. | Feixian Guangyuan Wood Products Co., Ltd | 59.46
Guangxi Guixun Panel Co. | Guangxi Guixun Panel Co. | 59.46
Highland Industries Inc. | Linyi Lanshan District Linyu Wood Board Plant | 59.46
Highland Industries Inc. | Feixian Jinhao Wood Board Plant. | 59.46
Highland Industries Inc. | Feixian Tanyi Youcheng Jiafu Wood Factory | 59.46
Highland Industries Inc. | Feixn Tanyi Xinhengda Multilayer Wood Plant | 59.46
Highland Industries Inc. | Hanlin Timber Products Company Ltd | 59.46
Highland Industries Inc. | Jiangsu Suyuan Wood Company Ltd | 59.46
Highland Industries Inc. | Linyi Feihong Wood Co., Ltd | 59.46
Highland Industries Inc. | Linyi Hongde Wood Co., Ltd | 59.46
Highland Industries Inc. | Linyi Huasheng Yongbin Wood Co., Ltd | 59.46
Highland Industries Inc. | Linyi Jinghua Wood Ltd | 59.46
Highland Industries Inc. | Linyi Maoling Wood Board Plant. | 59.46
Highland Industries Inc. | Linyi Quanjin Wood Co., Ltd | 59.46
Highland Industries Inc. | Linyi Yongguo Wood Board Plant | 59.46
Highland Industries Inc. | Linyi Zhangcheng Wood Co., Ltd | 59.46
Highland Industries Inc. | Pingyi Futian Wood Board Plant. | 59.46
Highland Industries Inc. | Qiangsheng Wood Co., Ltd | 59.46
Highland Industries Inc. | Shandong Union Wood | 59.46
Highland Industries Inc. | Shenghe Wood Company Ltd | 59.46
Highland Industries Inc. | Yishui Jinpeng Wood Co., Ltd | 59.46
Huainan Mengping Import and Export Co., Ltd | Linyi Qianfeng Panel Factory Co., Ltd | 59.46
Huainan Mengping Import and Export Co., Ltd | Linyi Dazhong Wood Co., Ltd | 59.46
Jiangsu Dilun International Trading Co., Ltd | Xuzhou Weilin Wood Co. Ltd (Weilin) | 59.46
Jiangsu Eastern Shengxin International Trading Co., Ltd | Xuzhou Huana Eraoor Wood Co. Ltd | 59.46
Jiangsu Eastern Shengxin International Trading Co., Ltd | Xuzhou Meilinsen Wood Wood Co. Ltd | 59.46
Jiangsu Eastern Shengxin International Trading Co., Ltd | Xuzhou Senya Wood Co. Ltd | 59.46
Jiangsu Happy Wood Industrial Group Co., Ltd | Jiangsu Happy Wood Industrial Group Co., Ltd | 59.46
Jiangsu Shengyang Industrial Joint Stock Co., Ltd | Jiangsu Shengyang Industrial Joint Stock Co., Ltd | 59.46
Jiangsu Simba Flooring Co., Ltd | Yixing Lion-King Timber Industry Co., Ltd | 59.46
Jiangsu Simba Flooring Co., Ltd | Jiangsu Simba Flooring Co., Ltd | 59.46
Jiangsu Top Point International Co., Ltd | Linyi Youcheng Jiafu Wood Products Co., Ltd | 59.46
Jiangsu Top Point International Co., Ltd | Linyi Xingying Wood Products Co., Ltd | 59.46
Jiangsu Top Point International Co., Ltd | Fengxian Jihe Wood Products Co., Ltd | 59.46
Jiangsu Top Point International Co., Ltd | Fengxian Zhongtuo Woods Co., Ltd | 59.46
Jiangsu Top Point International Co., Ltd | Linyi Huajun Wood Products Co., Ltd | 59.46
Jiangsu Top Point International Co., Ltd | Shandong Junxing Woods Co., Ltd | 59.46
Jiangsu Top Point International Co., Ltd | Linyi Hongtaiyang Woods Co., Ltd | 59.46
Jiangsu Top Point International Co., Ltd | Linyi Zhenyuan Wood Products Co., Ltd | 59.46
Jiangsu Top Point International Co., Ltd | Linyi Xicheng Wood Products Co., Ltd | 59.46
Jiangsu Top Point International Co., Ltd | Linyi Dongfang Juxin Wood Co., Ltd | 59.46
Jiangsu Top Point International Co., Ltd | Linyi Huifeng Wood Industry Co., Ltd | 59.46
Jiangsu Top Point International Co., Ltd | Xuzhou Zhongcai Wood Co., Ltd | 59.46
Jiangsu Top Point International Co., Ltd | Fengxian Fangyuan Wood Co., Ltd | 59.46
Jiangsu Top Point International Co., Ltd | Xuzhou Dayuan Wood Factory | 59.46
Jiangsu Top Point International Co., Ltd | Linyi Dashun Wood Co., Ltd | 59.46
Jiangsu Top Point International Co., Ltd | Pingyi Futian Wood Co., Ltd | 59.46
Jiangsu Top Point International Co., Ltd | Pingyi Xinda Wood Factory | 59.46
Jiangsu Top Point International Co., Ltd | Linyi Jiuda Wood Co., Ltd | 59.46
Jiangsu Top Point International Co., Ltd | Linyi Laite Wood Factory | 59.46
Jiangsu Top Point International Co., Ltd | Linyi Ruichen Wood Co., Ltd | 59.46
Jiangsu Top Point International Co., Ltd | Linyi City Lanshan District Fubao Wood Factory | 59.46
Jiangsu Top Point International Co., Ltd | Linyi Linyu Wood Factory | 59.46
Jiangsu Top Point International Co., Ltd | Linyi Shunda Wood Factory | 59.46
Jiangsu Top Point International Co., Ltd | Linyi City Lanshan District Bancheng Town Yulin Wood Factory | 59.46
Jiangsu Top Point International Co., Ltd | Qufu Shengtai Super Plywood Ltd | 59.46
Jiangsu Vermont Wood Products Co., Ltd | Jiangsu Vermont Wood Products Co., Ltd | 59.46
Jiangsu Vermont Wood Products Co., Ltd | Jiangsu Vermont Wood Products Co., Ltd | 59.46
Jiashan Dalin Wood Industry Co., Ltd | Jiashan Dalin Wood Industry Co., Ltd | 59.46
Jiaxing Brilliant Import & Export Co., Ltd | Jiaxing Layo Decoration Materials Co., Ltd | 59.46
Jiaxing Gsun Imp. & Exp. Co., Ltd | Linyi Linhai Wood Co., Ltd | 59.46
Jiaxing Gsun Imp. & Exp. Co., Ltd | Shandong Fengtai Wood Co., Ltd | 59.46
Jiaxing Gsun Imp. & Exp. Co., Ltd | Feixian Hongsheng Wood Co., Ltd | 59.46
Jiaxing Gsun Imp. & Exp. Co., Ltd | Linyi Jianxin Wood Co., Ltd | 59.46
Jiaxing Gsun Imp. & Exp. Co., Ltd | Linyi Dayong Wood Co., Ltd | 59.46
Jiaxing Gsun Imp. & Exp. Co., Ltd | Linyi Yutai Timber Co., Ltd | 59.46
Jiaxing Gsun Imp. & Exp. Co., Ltd | Zhucheng Huifeng Wood Industry Co., Ltd | 59.46
Jiaxing Gsun Imp. & Exp. Co., Ltd | Linyi Dashun Wood Co., Ltd | 59.46
Jiaxing Gsun Imp. & Exp. Co., Ltd | Linyi Huifeng Wood Industry Co., Ltd | 59.46
Jiaxing Gsun Imp. & Exp. Co., Ltd | Linyi Qunxiang Wood Co., Ltd | 59.46
Jiaxing Hengtong Wood Co., Ltd | Jiaxing Hengtong Wood Co., Ltd | 59.46
Jiaxing Kaochuan Woodwork Co., Ltd | Jiaxing Kaochuan Woodwork Co., Ltd | 59.46
Joc Yuantai International Trading Co., Ltd | Linyi Huasheng Yongbin Wood Corp. | 59.46
Joc Yuantai International Trading Co., Ltd | Fengxian Jihe Wood Co., Ltd | 59.46
Joc Yuantai International Trading Co., Ltd | Xuzhou Dayuan Wood Factory | 59.46
Joc Yuantai International Trading Co., Ltd | Linyi Linyu Wood Factory | 59.46
Joc Yuantai International Trading Co., Ltd | Linyi Lanshan District Fubo Woods Factory | 59.46
Langfang Baomujie Wood Co., Ltd | Langfang Baomujie Wood Co., Ltd | 59.46
Larkcop International Co., Ltd | Xuzhou Camry Wood Co., Ltd | 59.46
Leadwood Industrial Corp | Leadwood Industrial Corp | 59.46
Lianyungang Penghai International Trading Co., Ltd | Linyi Linxiang Boards Factory | 59.46
Lianyungang Yuantai International Trade Co., Ltd | Linyi Huifeng Wood Industry Co., Ltd | 59.46
Lianyungang Yuantai International Trade Co., Ltd | Shandong Union Wood Co., Ltd | 59.46
Lianyungang Yuantai International Trade Co., Ltd | Linyi Ruichen Economy And Trade Co., Ltd | 59.46
Lianyungang Yuantai International Trade Co., Ltd | Linyi Jinghua Wood Co., Ltd | 59.46
Lianyungang Yuantai International Trade Co., Ltd | Pizhou Jiangshan Wood Co., Ltd | 59.46
Lianyungang Yuantai International Trade Co., Ltd | Xuzhou Longyuan Wood Co., Ltd | 59.46
Lianyungang Yuantai International Trade Co., Ltd | Xuzhou Zhongcai Wood Co., Ltd | 59.46
Lianyungang Yuantai International Trade Co., Ltd | Linyi Baoshan Wood Co., Ltd | 59.46
Lianyungang Yuantai International Trade Co., Ltd | Linyi Quanjin Wood Co., Ltd | 59.46
Lianyungang Yuantai International Trade Co., Ltd | Shandong Compete Wood Co., Ltd | 59.46
Lianyungang Yuantai International Trade Co., Ltd | Xinyi Chaohua Wood Co., Ltd | 59.46
Lianyungang Yuantai International Trade Co., Ltd | Feixian Hongqiang Wood Co., Ltd | 59.46
Lianyungang Yuantai International Trade Co., Ltd | Xinyi Lujiang Wood Co., Ltd | 59.46
Lianyungang Yuantai International Trade Co., Ltd | Linyi Dashun Woods Co., Ltd | 59.46
Lianyungang Yuantai International Trade Co., Ltd | Pizhou Jinguoyuan Wood Co., Ltd | 59.46
Lingyi Huasheng Yongbin Wood Co., Ltd | Lingyi Huasheng Yongbin Wood Co., Ltd | 59.46
Linyi Anshun Timber Co., Ltd | Linyi Anshun Timber Co., Ltd | 59.46
Linyi City Dongfang Jinxin Economic & Trade Co., Ltd | Linyi City Dongfang Jinxin Economic & Trade Co., Ltd | 59.46
Linyi City Dongfang Jinxin Economic & Trade Co., Ltd | Linyi City Dongfang Jinxin Economic & Trade Co., Ltd | 59.46
Linyi Dahua Wood Co., Ltd | Linyi Dahua Wood Co., Ltd | 59.46
Linyi Dongfangjuxin Wood Co., Ltd | Linyi Dongfangjuxin Wood Co., Ltd | 59.46
Linyi Evergreen Wood Co., Ltd | Linyi Evergreen Wood Co., Ltd | 59.46
Linyi Glary Plywood Co., Ltd | Linyi Glary Plywood Co., Ltd | 59.46
Linyi Hengsheng Wood Industry Co., Ltd | Linyi Hengsheng Wood Industry Co., Ltd | 59.46
Linyi Huifeng Wood Industry Co., Ltd | Linyi Huifeng Wood Industry Co., Ltd | 59.46
Linyi Jiahe Wood Industry Co., Ltd | Linyi Jiahe Wood Industry Co., Ltd | 59.46
Linyi Kaier International Trade Co., Ltd | Linyi Lianyi Wood Co., Ltd | 59.46
Linyi King Import And Export Co., Ltd | Linyi Celtic Wood Co., Ltd | 59.46
Linyi Linhai Wood Co., Ltd | Linyi Linhai Wood Co., Ltd | 59.46
Linyi Mingzhu Wood Co., Ltd | Linyi Mingzhu Wood Co., Ltd | 59.46
Linyi Tianhe Wooden Industry Co., Ltd | Linyi Tianhe Wooden Industry Co., Ltd | 59.46
Linyi Zhongtai Import And Export Co., Ltd | Linyi Cathay Pacific Wood Factory | 59.46
Pacific Plywood Co., Ltd | Pacific Plywood Co., Ltd | 59.46
Pingyi Jinniu Wood Co., Ltd | Pingyi Jinniu Wood Co., Ltd | 59.46
Pizhou Hengxing International Trade Co., Ltd | Xuzhou Fuyuan Wood Co., Ltd | 59.46
Qingdao King Sports Products Technology Co., Ltd | Anhui Fuyang Qinglin Wood Products Co., Ltd | 59.46
Qingdao King Sports Products Technology Co., Ltd | Feixian Tanyi Youchengjiafu Wood Products Co., Ltd | 59.46
Qingdao King Sports Products Technology Co., Ltd | Fengxian Jihe Wood Products Co., Ltd | 59.46
Qingdao King Sports Products Technology Co., Ltd | Feixian Longmen Wood Products Co., Ltd | 59.46
Qingdao King Sports Products Technology Co., Ltd | Linyi Xicheng Wood Products Co., Ltd | 59.46
Qingdao King Sports Products Technology Co., Ltd | Feixian Guangyuan Wood Products Co., Ltd | 59.46
Qingdao King Sports Products Technology Co., Ltd | Linyi Huifeng Wood Insustry Co., Ltd | 59.46
Qingdao King Sports Products Technology Co., Ltd | Cangshan Hongrui Wood Products Co., Ltd | 59.46
Qingdao King Sports Products Technology Co., Ltd | Shandong Union Wood Co., Ltd | 59.46
Qingdao King Sports Products Technology Co., Ltd | Xinyi Chaohua Wood Products Co., Ltd | 59.46
Qingdao King Sports Products Technology Co., Ltd | Fengxian Zhongtuo Wood Products Co., Ltd | 59.46
Qingdao King Sports Products Technology Co., Ltd | Fengxian Shuangxingyuan Wood Products Co., Ltd | 59.46
Qingdao King Sports Products Technology Co., Ltd | Yutai Zezhong Wood Products Co., Ltd | 59.46
Qingdao King Sports Products Technology Co., Ltd | Linyi Qiangsheng Wood Products Co., Ltd | 59.46
Qingdao King Sports Products Technology Co., Ltd | Shandong Lufeng Chaoyang Wood Products Co., Ltd | 59.46
Qingdao King Sports Products Technology Co., Ltd | Linyi Junxing Wood Products Co ., Ltd | 59.46
Qingdao King Sports Products Technology Co., Ltd | Linyi Yiming Wood Products Co., Ltd | 59.46
Qingdao King Sports Products Technology Co., Ltd | Linyi Jianping Wood Products Co., Ltd | 59.46
Qingdao King Sports Products Technology Co., Ltd | Linyi Feihong Wood Products Co., Ltd | 59.46
Qingdao King Sports Products Technology Co., Ltd | Linyi Jinghua Wood Co., Ltd | 59.46
Qingdao King Sports Products Technology Co., Ltd | Fengxian Zhongtuo Wood Co., Ltd | 59.46
Qingdao Top P&Q International Corp | Feixian Tanyi Youchengjiafu Wood Products Co., Ltd | 59.46
Qingdao Top P&Q International Corp | Feixian Xingying Wood Produts Co., Ltd | 59.46
Qingdao Top P&Q International Corp | Feixian Tanyi Hongtaiyang Wood Produts Co., Ltd | 59.46
Qingdao Top P&Q International Corp | Shandong Union Wood Co., Ltd | 59.46
Qingdao Top P&Q International Corp | Xinyi Chaohua Wood Products Co., Ltd | 59.46
Qingdao Top P&Q International Corp | Feixian Hongsheng Wood Products Co., Ltd | 59.46
Qingdao Top P&Q International Corp | Shandong Ningjin Runkang Wood Products Co., Ltd | 59.46
Qingdao Top P&Q International Corp | Linyi Dahua Wood Product Co., Ltd | 59.46
Qingdao Top P&Q International Corp | Shandong Zhengda Industry And Trad Development Co., Ltd | 59.46
Qingdao Top P&Q International Corp | Feixian Longmen Plywood Co., Ltd | 59.46
Qingdao Top P&Q International Corp | Linyi Huasheng Yongbin Wood Co., Ltd | 59.46
Qingdao Top P&Q International Corp | Linyi Jiacheng Wood Products Co., Ltd | 59.46
Qingdao Top P&Q International Corp | Yutai Zezhong Wood Product Co., Ltd | 59.46
Qingdao Top P&Q International Corp | Linyi Qianfeng Wood Products Co., Ltd | 59.46
Qingdao Top P&Q International Corp | Xuzhou Yujinfang Wood Products Co., Ltd | 59.46
Qingdao Top P&Q International Corp | Fengxian Zhongtuo Wood Co., Ltd | 59.46
Qingdao Top P&Q International Corp | Linyi Jinqiu Wood Products Co., Ltd | 59.46
Qingdao Top P&Q International Corp | Linyi Laite Plywood Factory | 59.46
Qingdao Top P&Q International Corp | Linyi City Lanshan District Yixing Wood Produts Co., Ltd | 59.46
Qingdao Top P&Q International Corp | Xuzhou Qinyi Wood Products Co., Ltd | 59.46
Qingdao Top P&Q International Corp | Linyi Linhai Wood Co., Ltd | 59.46
Qingdao Top P&Q International Corp | Linyi Qunshan Wood Products Co., Ltd | 59.46
Qingdao Top P&Q International Corp | Linyi Hongpanyong Wood Products Co., Ltd | 59.46
Qingdao Top P&Q International Corp | Feixian Guangyuan Wood Products Co., Ltd | 59.46
Qufu Luhan Woodwork Co., Ltd | Qufu Luhan Woodwork Co., Ltd | 59.46
Qufu Shengfu Wood Work Co., Ltd | Qufu Shengfu Wood Work Co., Ltd | 59.46
Shandong Anxin Timber Co., Ltd | Shandong Anxin Timber Co., Ltd | 59.46
Shandong Jinli Imp.&Exp. Co., Ltd | Shandong Province Shouguang City Houzhen Town Fuli Plywood Factory | 59.46
Shandong Qishan International Trading Co., Ltd | Linyi Tuopu Zhixin Wooden Industry Co., Ltd | 59.46
Shandong Qishan International Trading Co., Ltd | Cangshan County Hongrui Wooden Industry Co., Ltd | 59.46
Shandong Union Wood Co., Ltd | Shandong Union Wood Co., Ltd | 59.46
Shandong Xingang Group | Shandong Xingang Group | 59.46
Shangdong Huaxin Jiasheng Wood Co., Ltd | Shangdong Huaxin Jiasheng Wood Co., Ltd | 59.46
Shanghai Aviation Import & Export Co., Ltd | Zhonglin Enterprise (Dangshan) Co., Ltd | 59.46
Shanghai Aviation Import & Export Co., Ltd | Pingyi County Futian Boards Factory | 59.46
Shanghai Aviation Import & Export Co., Ltd | Shandong Zhengda Industrial Development Co., Ltd | 59.46
Shanghai Futuwood Trading Co., Ltd | Linyi Jinghua Wood Co., Ltd | 59.46
Shanghai Futuwood Trading Co., Ltd | Linyi Lianbang Wood Co., Ltd | 59.46
Shanghai Futuwood Trading Co., Ltd | Linyi Jiacheng Wood Co., Ltd | 59.46
Shanghai Futuwood Trading Co., Ltd | Shandong Fengtai Wood Co., Ltd | 59.46
Shanghai Futuwood Trading Co., Ltd | Linyi Huada Wood Co., Ltd | 59.46
Shanghai Futuwood Trading Co., Ltd | Linyi Mingzhu Wood Co., Ltd | 59.46
Shanghai Futuwood Trading Co., Ltd | Linyi Jinkun Wood Co., Ltd | 59.46
Shanghai Futuwood Trading Co., Ltd | Linyi Tenghu Wood Co., Ltd | 59.46
Shanghai Futuwood Trading Co., Ltd | Linyi Kaifeng Wooden Boards Factory | 59.46
Shanghai Futuwood Trading Co., Ltd | Linyi Laite Boards Factory | 59.46
Shanghai Futuwood Trading Co., Ltd | Linyi Yuqiao Boards Factory | 59.46
Shanghai Futuwood Trading Co., Ltd | Yishui Senbao Wood Co., Ltd | 59.46
Shanghai Futuwood Trading Co., Ltd | Yishui Zhili Wood Co., Ltd | 59.46
Shanghai Futuwood Trading Co., Ltd | Linyi Tuopu Zhixin Wooden Industry Co., Ltd | 59.46
Shanghai Futuwood Trading Co., Ltd | Shandong Lufeng Chaoyang Wood Co., Ltd | 59.46
Shanghai Futuwood Trading Co., Ltd | Shandong Huaxin Jiasheng Wood Co., Ltd | 59.46
Shanghai Futuwood Trading Co., Ltd | Yishui Hongtai Wood Co., Ltd | 59.46
Shanghai Futuwood Trading Co., Ltd | Feixian Huafeng Wood Co., Ltd | 59.46
Shanghai Futuwood Trading Co., Ltd | Linyi Geluobao Artificial Board Factory | 59.46
Shanghai Futuwood Trading Co., Ltd | Linyi Futai Wood Co., Ltd | 59.46
Shanghai Futuwood Trading Co., Ltd | Linyi Yutai Wood Co., Ltd | 59.46
Shanghai Futuwood Trading Co., Ltd | Feixian Yuansen Composite Board Factory | 59.46
Shanghai Futuwood Trading Co., Ltd | Linyi Xincheng Wooden Products General Factory, Feixian Branch | 59.46
Shanghai Futuwood Trading Co., Ltd | Linyi Xinli Wood Co., Ltd | 59.46
Shanghai Futuwood Trading Co., Ltd | Linyi Zhongxinsen Wood Co., Ltd | 59.46
Shanghai Futuwood Trading Co., Ltd | Mengyin Hongxin Wood Co., Ltd | 59.46
Shanghai Luli Trading Co., Ltd | Feixian Tanyi Town Hongtaiyang Wood Co., Ltd | 59.46
Shanghai Luli Trading Co., Ltd | Xuzhou Yujinfang Wood Co., Ltd | 59.46
Shanghai Luli Trading Co., Ltd | Shandong Huaxin Jiasheng Wood Co., Ltd | 59.46
Shanghai Luli Trading Co., Ltd | Feixian Nanzhangzhuang Town Qingqi Wood Product Co., Ltd | 59.46
Shanghai Luli Trading Co., Ltd | Juxian Dechang Wood Co., Ltd | 59.46
Shanghai Mailin International Trade Co., Ltd | Xuzhou Camry Wood Co., Ltd | 59.46
Shanghai Mailin International Trade Co., Ltd | Fengxian Shuangxingyuan Wood Co., Ltd | 59.46
Shanghai Mailin International Trade Co., Ltd | Juxian Dechang Wood Co., Ltd | 59.46
Shanghai Mailin International Trade Co., Ltd | Pizhou Xuexin Wood Co., Ltd | 59.46
Shanghai Mailin International Trade Co., Ltd | Pizhou Jinguoyuan Wood Co., Ltd | 59.46
Shanghai S&M Trade Co., Ltd | Huaiyang Xiangyu Wood Industry Co., Ltd | 59.46
Shanghai S&M Trade Co., Ltd | Langfang Baomujie Wood Co., Ltd | 59.46
Shanghai S&M Trade Co., Ltd | Jiangsu Shuren Wood Industry Co., Ltd | 59.46
Shanghai Senda Fancywood Industry Co. | Shanghai Senda Fancywood Industry Co. | 59.46
Shouguang Sanyang Wood Industry Co., Ltd | Shouguang Sanyang Wood Industry Co., Ltd | 59.46
Siyang Enika International Trade Co., Ltd | Jiangsu Shuren Wood Industry Co., Ltd | 59.46
Siyang Enika International Trade Co., Ltd | Suqianshi Qiyi Plywood Co., Ltd | 59.46
Smart Gift International | Jiangsu Shuren Wood Industry Co., Ltd | 59.46
Smart Gift International | Huaiyang Xiangyu Wood Industry Co., Ltd | 59.46
Smart Gift International | Langfang Baomujie Wood Co., Ltd | 59.46
Sumec International Technology Co., Ltd | Suqian Huilin Wood Industry Co., Ltd | 59.46
Sumec International Technology Co., Ltd | Yinli Lianyi Wood Industry Co., Ltd | 59.46
Sumec International Technology Co., Ltd | Linyi Dashun Wood Industry Co., Ltd | 59.46
Sumec International Technology Co., Ltd | Jiangsu Shuren Wood Industry Co., Ltd | 59.46
Sumec International Technology Co., Ltd | Linyi Yiming Wood Industry Co., Ltd | 59.46
Sumec International Technology Co., Ltd | Linyi Xicheng Wood Industry Co., Ltd | 59.46
Sumec International Technology Co., Ltd | Shandong Junxing Wood Industry Co., Ltd | 59.46
Sumec International Technology Co., Ltd | Xuzhou Zhongtai Wood Industry Co., Ltd | 59.46
Sumec International Technology Co., Ltd | Linyi Lanshan District Linyu Panel Factory | 59.46
Sumec International Technology Co., Ltd | Fengxian Jihe Wood Industry Co., Ltd | 59.46
Suqian Foreign Trade Co., Ltd | Pizhou Jiangshan Wood Co., Ltd | 59.46
Suqian Foreign Trade Co., Ltd | Suqian Bairun Wood Co., Ltd | 59.46
Suqian Hopeway International Trade Co., Ltd | Xuzhou Henglin Wood Co., Ltd | 59.46
Suqian Hopeway International Trade Co., Ltd | Qufu Shengda Wood Co., Ltd | 59.46
Suqian Hopeway International Trade Co., Ltd | Qufu Dongyuan Wood Co., Ltd | 59.46
Suqian Hopeway International Trade Co., Ltd | Xuzhou Fuyu Wood Co., Ltd | 59.46
Suqian Hopeway International Trade Co., Ltd | Linyi Dahua Wood Co., Ltd | 59.46
Suqian Hopeway International Trade Co., Ltd | Xuzhou Longyuan Wood Co., Ltd | 59.46
Suqian Hopeway International Trade Co., Ltd | Linyi Dazhong Wood Co. Ltd | 59.46
Suqian Hopeway International Trade Co., Ltd | Linyi Jinhua Wood Co., Ltd | 59.46
Suqian Hopeway International Trade Co., Ltd | Feixian Jianxin Wood Co., Ltd | 59.46
Suqian Hopeway International Trade Co., Ltd | Linyi Qianfeng Wood Co., Ltd | 59.46
Suqian Hopeway International Trade Co., Ltd | Pizhou Jiangshan Wood Co., Ltd | 59.46
Suqian Hopeway International Trade Co., Ltd | Jiangsu Vermont Wood Products Co., Ltd | 59.46
Suqian Hopeway International Trade Co., Ltd | Xuzhou Hongwei Wood Co., Ltd | 59.46
Suqian Hopeway International Trade Co., Ltd | Linyi Dashun Wood Co., Ltd | 59.46
Suqian Hopeway International Trade Co., Ltd | Linyi City Dongfang Jinxin Economic And Trade Co., Ltd | 59.46
Suqian Hopeway International Trade Co., Ltd | Guangxi Guigang Haixong Wood, Co., Ltd | 59.46
Suzhou Dongda Wood Co., Ltd | Suzhou Dongda Wood Co., Ltd | 59.46
Suzhou Fengshuwan Import And Export Trade Co., Ltd | Xuzhou Henglin Wood Co., Ltd | 59.46
Suzhou Fengshuwan Import And Export Trade Co., Ltd | Qufu Shengda Wood Co., Ltd | 59.46
Suzhou Fengshuwan Import And Export Trade Co., Ltd | Qufu Dongyuan Wood Co., Ltd | 59.46
Suzhou Fengshuwan Import And Export Trade Co., Ltd | Xuzhou Fuyu Wood Co., Ltd | 59.46
Suzhou Fengshuwan Import And Export Trade Co., Ltd | Linyi Dahua Wood Co., Ltd | 59.46
Suzhou Oriental Dragon Import And Export Corp Ltd | Linyi City Qunxiang Wood Corp | 59.46
Suzhou Oriental Dragon Import And Export Corp Ltd | Linyi Huachengyongbin Wood Corp | 59.46
Suzhou Oriental Dragon Import And Export Corp Ltd | Linyi City Tiancai Wood Corp | 59.46
Suzhou Oriental Dragon Import And Export Corp Ltd | Shandong Jinqiu Wood Corp | 59.46
Suzhou Oriental Dragon Import And Export Corp Ltd | Linyi City Jinghua Wood Corp | 59.46
Suzhou Oriental Dragon Import And Export Corp Ltd | Linyi City Yongsen Wood Corp | 59.46
Suzhou Oriental Dragon Import And Export Corp Ltd | Linyi Tianhe Wood Factory | 59.46
Suzhou Oriental Dragon Import And Export Corp Ltd | Juxian Dechang Wood Factory | 59.46
Suzhou Oriental Dragon Import And Export Corp Ltd | Linyi Sanli Wood Factory | 59.46
Suzhou Oriental Dragon Import And Export Corp Ltd | Xuzhou Dayuan Wood Factory | 59.46
Suzhou Oriental Dragon Import And Export Corp Ltd | Feng County Zhongtuo Wood Factory | 59.46
Suzhou Oriental Dragon Import And Export Corp Ltd | Feng County Shuangxingyuan Wood Factory | 59.46
Suzhou Oriental Dragon Import And Export Corp Ltd | Linyi Jinhao Wood Factory | 59.46
Suzhou Oriental Dragon Import And Export Corp Ltd | Suzhou Hengzheng Wood Co., Ltd | 59.46
Suzhou Oriental Dragon Import And Export Corp Ltd | Jiangsu Vermont Wood | 59.46
Suzhou Oriental Dragon Import And Export Corp Ltd | Linyi Dahua Wood Co., Ltd | 59.46
Suzhou Oriental Dragon Import And Export Corp Ltd | Yinhe Machinery Chemical Limited Company Of Shandong Province | 59.46
Suzhou Oriental Dragon Import And Export Corp Ltd | Suqian Bairun Wood Industry Co., Ltd | 59.46
Suzhou Oriental Dragon Import And Export Corp Ltd | Shandong Anxin Timber Co., Ltd | 59.46
Wenzhou Eita Import & Export Co., Ltd | Linyi Ruichen Economic And Trade Co., Ltd | 59.46
Wenzhou Eita Import & Export Co., Ltd | Hongye Wood Products Co., Ltd | 59.46
Wenzhou Eita Import & Export Co., Ltd | Sahngdaong Lianbang Wooden Co., Ltd | 59.46
Wenzhou Eita Import & Export Co., Ltd | Fei County Guangyuan Wood Product | 59.46
Wenzhou Eita Import & Export Co., Ltd | Pingyi County Jufeng Wood Products Co., Ltd | 59.46
Wenzhou Eita Import & Export Co., Ltd | Xuzhou Zhongda Cai Wood Products Co., Ltd | 59.46
Wenzhou Eita Import & Export Co., Ltd | Linyi Hengda Wood Products Co., Ltd | 59.46
Wenzhou Eita Import & Export Co., Ltd | Xuzhou Changchen Wood Products Co., Ltd | 59.46
Wenzhou Eita Import & Export Co., Ltd | Zhucheng Hailong Industry And Trade Co., Ltd | 59.46
Xuzhou Antop International Trade Co., Ltd | Xuzhou Anlian Wood Co., Ltd (Anlian) | 59.46
Xuzhou Baoqi Wood Product Co., Ltd | Linyi Quanjin Wood Co., Ltd | 59.46
Xuzhou Baoqi Wood Product Co., Ltd | Linyi Huifeng Wood Industry Co., Ltd | 59.46
Xuzhou Baoqi Wood Product Co., Ltd | Xingying Wood Co., Ltd | 59.46
Xuzhou Baoqi Wood Product Co., Ltd | Linyi Lanshan District Rongxin Wood Packaging Plant | 59.46
Xuzhou Chengxin Wood Co., Ltd | Xuzhou Chengxin Wood Co., Ltd | 59.46
Xuzhou Ekea International Trade Co., Ltd | Cangshan Hongrui Wood Co., Ltd | 59.46
Xuzhou Ekea International Trade Co., Ltd | Linyi Tianwei Wood & Decorative Panel Factory Co., Ltd | 59.46
Xuzhou Ekea International Trade Co., Ltd | Fengxian Jihe Wood Co., Ltd | 59.46
Xuzhou Ekea International Trade Co., Ltd | Suzhou Shunfa Wood Co., Ltd | 59.46
Xuzhou Hansun Import & Export Co., Ltd | Xuzhou Zhongyuan Wood Co., Ltd (Zhongyuan) | 59.46
Xuzhou Hongda Wood Co., Ltd | Xuzhou Hongda Wood Co., Ltd | 59.46
Xuzhou Pengyu Wood Products Co., Ltd | Xuzhou Pengyu Wood Products Co., Ltd | 59.46
Xuzhou Pinlin International Trade Co., Ltd | Anhui Xinyuanda Wood Co., Ltd | 59.46
Xuzhou Pinlin International Trade Co., Ltd | Feixian Xinyu Wood Co., Ltd | 59.46
Xuzhou Pinlin International Trade Co., Ltd | Fengxian Fangyuan Wood Co, Ltd | 59.46
Xuzhou Pinlin International Trade Co., Ltd | Linyi Changcheng Wood Co., Ltd | 59.46
Xuzhou Pinlin International Trade Co., Ltd | Linyi Huifeng Wood Industry Co., Ltd | 59.46
Xuzhou Pinlin International Trade Co., Ltd | Linyi Qunshan Wood Co., Ltd | 59.46
Xuzhou Pinlin International Trade Co., Ltd | Linyi Xinrui Wood Co., Ltd | 59.46
Xuzhou Pinlin International Trade Co., Ltd | Pizhou Jiangshan Wood Co., Ltd | 59.46
Xuzhou Pinlin International Trade Co., Ltd | Pizhou Jinguoyuan Wood Co., Ltd | 59.46
Xuzhou Pinlin International Trade Co., Ltd | Pizhou Xuexin Wood Co., Ltd | 59.46
Xuzhou Pinlin International Trade Co., Ltd | Shandong Hualianjushan Wood Co., Ltd | 59.46
Xuzhou Pinlin International Trade Co., Ltd | Shandong Union Wood Co., Ltd | 59.46
Xuzhou Pinlin International Trade Co., Ltd | Xinyi Zhongcai Wood Co., Ltd | 59.46
Xuzhou Pinlin International Trade Co., Ltd | Xuzhou Anlian Wood Co., Ltd | 59.46
Xuzhou Pinlin International Trade Co., Ltd | Xuzhou Changcheng Wood Co., Ltd | 59.46
Xuzhou Pinlin International Trade Co., Ltd | Xuzhou Fuyu Wood Co., Ltd | 59.46
Xuzhou Pinlin International Trade Co., Ltd | Xuzhou Hongmei Wood Development Co., Ltd | 59.46
Xuzhou Pinlin International Trade Co., Ltd | Xuzhou Longyuan Wood Co., Ltd | 59.46
Xuzhou Pinlin International Trade Co., Ltd | Xuzhou Yuanhao Wood Industry Co., Ltd | 59.46
Xuzhou Pinlin International Trade Co., Ltd | Yanzhou Huashiluyuan Wood Development Co., Ltd | 59.46
Xuzhou Runjin Import & Export Trade Co., Ltd | Xuzhou Camry Wood Co., Ltd (Camry) | 59.46
Xuzhou Runjin Import & Export Trade Co., Ltd | Lianyungang Wonderful Wood Co., Ltd (Wonderful Wood) | 59.46
Xuzhou Sanli Wood Co., Ltd | Xuzhou Sanli Wood Co., Ltd | 59.46
Xuzhou Shenghe Wood Co., Ltd | Xuzhou Shenghe Wood Co., Ltd | 59.46
Xuzhou Shengping Import & Export Co., Ltd | Fengxian Jihe Wood Industry Co. Ltd | 59.46
Xuzhou Shengping Import & Export Co., Ltd | Fengxian Weiheng Wood Co., Ltd | 59.46
Xuzhou Shengping Import & Export Co., Ltd | Xuzhou Longyuan Wood Co., Ltd | 59.46
Xuzhou Sincere Wood Co., Ltd | Xuzhou Sincere Wood Co., Ltd | 59.46
Xuzhou Tianshan Wood Co., Ltd | Xuzhou Tianshan Wood Co., Ltd | 59.46
Xuzhou Timber International Trade Co., Ltd | Xuzhou Jiangheng Wood Products Co., Ltd | 59.46
Xuzhou Timber International Trade Co., Ltd | Xuzhou Jiangyang Wood Industries Co., Ltd | 59.46
Xuzhou Timber International Trade Co., Ltd | Xuzhou Changcheng Wood Co., Ltd | 59.46
Xuzhou Timber International Trade Co., Ltd | Hebei Tongli Wood Co., Ltd | 59.46
Xuzhou Timber International Trade Co., Ltd | Linyi Mingzhu Wood Co., Ltd | 59.46
Xuzhou Timber International Trade Co., Ltd | Qufu City Shengda Wooden Industry Co., Ltd | 59.46
Xuzhou Timber International Trade Co., Ltd | Cangshan Hongrui Wood Co., Ltd | 59.46
Xuzhou Timber International Trade Co., Ltd | Linyi Hualing Plywood Factory | 59.46
Xuzhou Timber International Trade Co., Ltd | Linyi Quanjin Wood Co., Ltd | 59.46
Xuzhou Timber International Trade Co., Ltd | Linyi Xinrui Wood Co., Ltd | 59.46
Xuzhou Timber International Trade Co., Ltd | Linyi Huifeng Wood Co., Ltd | 59.46
Xuzhou Timber International Trade Co., Ltd | Linyi Dazhong Wood Co., Ltd | 59.46
Xuzhou Timber International Trade Co., Ltd | Pizhou Xuexin Wood Co., Ltd | 59.46
Xuzhou Weilin Wood Co., Ltd | Xuzhou Weilin Wood Co., Ltd | 59.46
Xuzhou Zhongda Building Materials Co., Ltd | Linyi Jianshun Wood Co., Ltd (Jianshun) | 59.46
Xuzhou Zhongda Building Materials Co., Ltd | Xuzhou Runcheng Wood Co., Ltd (Runcheng) | 59.46
Yijiang Wood Products (Kunshan) Co., Ltd | Yijiang Wood Products (Kunshan) Co., Ltd | 59.46
Yinhe Machinery Chemical Limited Company Of Shandong Province | Yinhe Machinery Chemical Limited Company Of Shandong Province | 59.46
Yishui Hongtai Wood-Made Co., Ltd | Yishui Hongtai Wood-Made Co., Ltd | 59.46
Yutai Zezhong Wood Co., Ltd | Yutai Zezhong Wood Co., Ltd | 59.46
Zhejiang Anji Tiancheng Flooring Co., Ltd | Zhejiang Anji Tiancheng Flooring Co., Ltd | 59.46
Zhejiang Dehua Tb Import & Export Co., Ltd | Zhejiang Jufeng Wood Co., Ltd | 59.46
Zhejiang Dehua Tb Import & Export Co., Ltd | Dehua Tb New Decoration Material Co., Ltd | 59.46
Zhejiang Dehua Tb Import & Export Co., Ltd | Zhangjiagang Jiuli Wood Co., Ltd | 59.46
Zhejiang Shenghua Yunfeng Import & Export Co., Ltd | Zhejiang Deqing Shengqiang Wood Co., Ltd | 59.46
Zhejiang Xinyuan Bamboo Products Co., Ltd | Zhejiang Xinyuan Bamboo Products Co., Ltd | 59.46
Zhejiang Yongyu Bamboo Joint-Stock Co., Ltd | Zhejiang Yongyu Bamboo Joint-Stock Co., Ltd | 59.46
PRC-Wide Entity ²⁰ |  | 121.65

Disclosure

In accordance with 19 CFR 351.224(b), the Department will disclose the calculations performed in this investigation to parties within five days of the date of publication of this notice in the Federal Register.

¹⁹ The Jiangyang Group consists of Xuzhou Jiangyang Wood Industries Co., Ltd and Xuzhou Jiangheng Wood Products Co., Ltd.

²⁰ This rate also applies to the companies listed in Attachment II of the Issues and Decision Memorandum.

Continuation of Suspension of Liquidation

In accordance with section 735(c)(1)(B) of the Act, the Department will instruct U.S. Customs and Border Protection (“CBP”) to continue to suspend liquidation of all appropriate entries of plywood from the PRC as described in the “Scope of the Investigation” section, which were entered, or withdrawn from warehouse, for consumption on or after May 3, 2013, the date of publication of the Preliminary Determination in the Federal Register. Further, the Department will instruct CBP to require a cash deposit equal to the weighted-average amount by which the normal value exceeds U.S. price as follows: (1) For the exporter/producer combinations listed in the table above, the cash deposit rate will be equal to the weighted-average dumping margin which the Department has determined in this final determination; (2) for all combinations of PRC exporters/producers of merchandise under consideration which have not received their own separate rate above, the cash deposit rate will be equal to the weighted-average dumping margin established for the PRC-wide entity; and (3) for all non-PRC exporters of merchandise under consideration which have not received their own separate rate above, the cash deposit rate will be equal to the cash deposit rate applicable to the PRC exporter/producer combination that supplied that non-PRC exporter.

These suspension of liquidation instructions will remain in effect until further notice.

International Trade Commission Notification

In accordance with section 735(d) of the Act, the Department has notified the International Trade Commission (“ITC”) of the final affirmative determination of sales at LTFV. In accordance with section 735(b)(2) of the Act, the ITC will determine, within 45 days, whether the domestic industry in the United States is materially injured, or threatened with material injury, by reason of imports, or sales (or the likelihood of sales) for importation, of the merchandise under consideration. If the ITC determines that material injury or threat of material injury does not exist, the proceeding will be terminated and all securities posted will be refunded. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Orders

This notice also serves as a reminder to the parties subject to administrative protective order (“APO”) of their responsibility concerning the disposition of propriety information disclosed under APO in accordance with 19 CFR 351.305. Timely written notification of return or destruction of APO materials or conversion to judicial protective order is hereby requested. Failure to comply with the regulations and terms of an APO is a sanctionable violation.

This determination is issued and published in accordance with sections 735(d) and 777(i)(1) of the Act.

Dated: September 16, 2013.
Paul Piquado,
Assistant Secretary for Import Administration.

Appendix

Issues for the Final Determination

General Issues

Comment 1: Calculation of the Separate Rate

Comment 2: Respondent Selection

Comment 3: Selection of the PRC-Wide Margin

Comment 4: Initiation of the Investigation was Unlawful

Comment 5: Comparison Methodology- Differential Pricing v. Targeted Dumping

Comment 6: Scope Related Issues

Comment 6.A: Solid Bamboo Products

Comment 6.B: Bamboo Flooring

Comment 6.C: Structural Plywood

Comment 6.D: “Very Thin” Plywood

Comment 6.E: Plywood With a Surface Other Than Wood

Comment 6.F: Other Scope Issues

Surrogate Country and Values Issues

Comment 7: Selection of the Surrogate Country

Comment 8: Selection of Financial Statements

Comment 9: Surrogate Value for Water

Comment 10: Surrogate Values for Wood Veneers

Comment 11: Surrogate Value for Bone Glue

Comment 12: Surrogate Value for Brokerage and Handling

Comment 13: Surrogate Value for Inland Freight

Mandatory Respondent Specific Issues

Jiangyang Group

Comment 14: Jiangyang Group's Unreported Sales

Comment 15: Jiangyang Group's Warehousing Expenses

Comment 16: Correction of the Final Customs Instructions for the Jiangyang Group

Linyi Sanfortune

Comment 16: Sanfortune's Packing Buckles

Comment 17: Sanfortune's Freight Distances

Comment 18: Correction of Sanfortune's Company Name for the Final Determination

Other Issues

Comment 19: Translation of Pizhou Henxing's Supplier's Name

Comment 20: Removal of Double Bracketed Information From the Record

Comment 21: Whether To Grant Certain Companies Separate Rates

[FR Doc. 2013-23088 Filed 9-20-13; 8:45 am]

BILLING CODE 3510-DS-P